FEDERAL COMMUNICATIONS COMMISSION

47 CFR Part 73

[DA 03-826; MM Docket No. 01-159; RM-10164; RM-10395]

Radio Broadcasting Services; Comanche, Mullin and Mason, TX

AGENCY: Federal Communications Commission.

ACTION: Final rule.

SUMMARY: This document denies a petition for rule making filed at the request of Charles Crawford, proposing the allotment of FM Channel 224A at Comanche, Texas as that community's second local FM transmission service (RM-10164). See 66 FR 39473, July 31, 2001. In response to a counterproposal filed by Mullin Broadcasters (RM-10395) this documents allots Channel 224C3 to Mullin, Texas, as that community's first local aural transmission service. Our determination was based on the Commission's allotment priorities (see Revisions of FM Assignment Policies and Procedures, 90 FCC 2d 88 (1982)), and is consistent with the Commission's policy to allot the highest class channel requested to a community that complies with the technical requirements of the Rules. Additionally, Channel 259A is allotted to Mason, Texas, as a replacement for vacant Channel 224A to accommodate the Mullin, Texas allotment. Coordinates used for Channel 224C3 at Mullin, Texas, are 31-33-24 NL and 98-39-55 WL. Coordinates used for replacement Channel 259A at Mason, Texas, remain unchanged at 30-45-00 NL and 99-14-00 WL. As Mason is located within 320 kilometers of the U.S.-Mexico border, the Mexican government will be advised of the channel substitution at that community. With this action, this docketed proceeding is terminated.

DATES: Effective May 5, 2003. A filing window for Channel 224C3 at Mullin, Texas, and for Channel 259A at Mason, Texas, will not be opened at this time. Instead, the issue of opening this allotment for auction will be addressed by the Commission in a subsequent Order.

FOR FURTHER INFORMATION CONTACT: Nancy Joyner, Media Bureau, (202) 418-2180.

SUPPLEMENTARY INFORMATION: This is a synopsis of the Commission's Report and Order, MM Docket No. 01-159, adopted March 19, 2003, and released March 21, 2003. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Channel 224A and adding Channel 259A at Mason; and by adding Mullin, Channel 224C3.

Federal Communications Commission.
John A. Karousos,
Assistant Chief, Audio Division, Media Bureau.

[FR Doc. 03-8406 Filed 4-4-03; 8:45 am]

BILLING CODE 6712-01-P